INTERNATIONAL TRADE COMMISSION

[USITC SE-05-013]

Sunshine Act Meeting Notice; Change in Meeting Date for Investigations and Scheduling

Agency Holding the Meeting: United States International Trade Commission.

Original Time and Date: April 13, 2005 at 11 a.m.

New Time and Date: April 19, 2005 at 9:30 a.m.

Place: Room 101, 500 E Street, SW., Washington, DC 20436, Telephone: (202) 205-2000.

Status: Open to the public.

Matters To Be Considered: 1. Agenda for future meetings: none.

2. Minutes.

3. Ratification List.

4. Inv. Nos. 701-TA-439 and 731-TA-1077, 1078, and 1080 (Final)(Polyethylene Terephthalate (PET) Resin from India, Indonesia, and Thailand)—briefing and vote. (The Commission is currently scheduled to transmit its determination and Commissioners' opinions to the Secretary of Commerce on or before May 3, 2005.)

5. Outstanding action jackets: None.

In accordance with 19 CFR 201.35 (d)(2), the Commission hereby announces a change of the date for the Commission vote in the above referenced investigations and schedules said meeting. In accordance with Commission policy, subject matter listed above not disposed of at the scheduled meeting, may be carried over to the agenda of the following meeting.

By order of the Commission.
Issued: April 5, 2005.
Marilyn R. Abbott,
Secretary to the Commission.

[FR Doc. 05-7167 Filed 4-6-05; 11:36 am]

BILLING CODE 7020-02-P